DEPARTMENT OF ENERGY

Federal Energy Regulatory Commission

Combined Notice of Filings #2

Take notice that the Commission received the following electric corporate filings:

Docket Numbers: EC16-44-000.

Applicants: American Illuminating Company, LLC.

Description: Application for Authorization under Section 203 of American Illuminating Company.

Filed Date: 11/30/15.

Accession Number: 20151130-5478.

Comments Due: 5 p.m. ET 12/21/15.

Take notice that the Commission received the following electric rate filings:

Docket Numbers: ER11-3697-000.

Applicants: Southern California Edison Company.

Description: Informational Filing of Notice of Revision to Formula Transmission Rate Annual Update of Southern California Edison Company.

Filed Date: 12/1/15.

Accession Number: 20151201-5254.

Comments Due: 5 p.m. ET 12/22/15.

Docket Numbers: ER15-2640-001.

Applicants: New York Independent System Operator, Inc.

Description: Compliance filing: Compliance two-week notice of activation of CTS with ISO-NE to be effective 12/15/2015.

Filed Date: 12/1/15.

Accession Number: 20151201-5193.

Comments Due: 5 p.m. ET 12/22/15.

Docket Numbers: ER16-440-000.

Applicants: Tampa Electric Company.

Description: Notice of Cancellation of Tampa Electric Company Rate Schedule FERC No. 79.

Filed Date: 11/30/15.

Accession Number: 20151130-5480.

Comments Due: 5 p.m. ET 12/21/15.

Docket Numbers: ER16-441-000.

Applicants: Northern States Power Company, a Minnesota corporation.

Description: § 205(d) Rate Filing: 2015-12-1_Peoples Structure Sharing_0.0.0—Filing to be effective 12/15/2015.

Filed Date: 12/1/15.

Accession Number: 20151201-5164.

Comments Due: 5 p.m. ET 12/22/15.

Docket Numbers: ER16-442-000.

Applicants: Northern Indiana Public Service Company.

Description: § 205(d) Rate Filing: Supplemental Filing to Docket No. ER15-2426-00 of Rate Schedule 2 to be effective 1/1/2016.

Filed Date: 12/1/15.

Accession Number: 20151201-5167.

Comments Due: 5 p.m. ET 12/22/15.

Docket Numbers: ER16-443-000.

Applicants: Southern California Edison Company.

Description: § 205(d) Rate Filing: SGIA Pearblossom Solar Project Solar Star and CDWR to be effective 12/2/2015.

Filed Date: 12/1/15.

Accession Number: 20151201-5208.

Comments Due: 5 p.m. ET 12/22/15.

Docket Numbers: ER16-444-000.

Applicants: Wabash Valley Power Association, Inc.

Description: Baseline eTariff Filing: FERC Electric Tariff Volume 4—Reactive Tariff to be effective 2/1/2016.

Filed Date: 12/1/15.

Accession Number: 20151201-5221.

Comments Due: 5 p.m. ET 12/22/15.

Take notice that the Commission received the following electric reliability filings:

Docket Numbers: RR16-1-000.

Applicants: North American Electric Reliability Corporation.

Description: Petition of the North American Electric Reliability Corporation for Approval of Amendments to Exhibit B to the Delegation Agreement with Southwest Power Pool, Inc.—Amendments to Southwest Power Pool, Inc.'s Bylaws.

Filed Date: 11/30/15.

Accession Number: 20151130-5488.

Comments Due: 5 p.m. ET 12/21/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2015.
Nathaniel J. Davis, Sr.,
Deputy Secretary.

[FR Doc. 2015-30737 Filed 12-4-15; 8:45 am]

BILLING CODE 6717-01-P